DEPARTMENT OF TRANSPORTATION

Coast Guard

[USCG-2001-9172]

National Offshore Safety Advisory Committee; Charter Renewal

AGENCY: Coast Guard, DOT.

ACTION: Notice of charter renewal.

SUMMARY: The Secretary of Transportation has renewed the charter for the National Offshore Safety Advisory Committee (NOSAC) for 2 years from January 11, 2001, until January 11, 2003. NOSAC is a Federal advisory committee under 5 U.S.C. App. 2. It advises the Coast Guard on safety and environmental protection issues relating to the offshore mineral and energy industries.

ADDRESSES: You may request a copy of the charter by writing to Commandant (G-MSO), U.S. Coast Guard, 2100 Second Street SW., Washington, DC 20593-0001; by calling 202-267-0214; or by faxing 202-267-4570. This notice and the charter are available on the Internet at http://dms.dot.gov.

FOR FURTHER INFORMATION CONTACT: Captain Peter Richardson, Executive Director of NOSAC, or Mr. Jim Magill, Assistant to the Executive Director, telephone 202-267-1082, fax 202-267-4570.

Dated: March 15, 2001.
Joseph J. Angelo,
Director of Standards, Marine Safety and Environmental Protection.

[FR Doc. 01-7625 Filed 3-27-01; 8:45 am]

BILLING CODE 4910-15-P